DEPARTMENT OF AGRICULTURE

Forest Service

Integrated Resource Contracts FS-2400-13 and FS-2400-13T

AGENCY: Forest Service, USDA.

ACTION: Notice; comment period reopened.

SUMMARY: The Forest Service published, on October 5, 2004 (69 FR 59577), a notice of interim contracts and request for comments on the Integrated Resource Contracts, FS 2400-13, for use when timber products are measured after harvest, and FS-2400-13T, for use when timber products are measured before harvest. The deadline for submitting written comments was November 4, 2004. The Forest Service published, on October 12, 2004 (69 FR 60608), a correction clarifying that the interim contracts became effective immediately upon publication of the original notice in the Federal Register.

FOR FURTHER INFORMATION CONTACT: Richard Fitzgerald, Forest Management Staff, (202) 205-1753, Lathrop Smith, Forest Management Staff, (202) 205-0858, or Don Benner, Forest Management Staff, (202-205-0855).

DATES: Comments must be received in writing on or before February 28, 2005.

ADDRESSES: Send written comments by mail to USDA Forest Service, Director Forest Management, 1400 Independence Avenue, SW., Mail Stop 1103, Washington, DC 20250-0003; via e-mail to: integratedresourcecontracts@fs.fed.us; or via facsimile to (202) 205-1045. Comments may also be submitted via the World Wide Web Internet Web site at: http://www.regulations.gov. All comments including names and addresses when provided are placed in the record and are available for public inspection and copying. The Integrated Resource Contracts are available for public review on the Forest Service World Wide Web/Internet site at: http: //www.fs.fed.us/forestmanagement/projects/stewardship/contracts. Alternatively, these can be viewed in the office of the Director of Forest Management, Third Floor, Northwest Wing, Yates Building, 201 14th Street, SW., Washington, DC. Visitors are encouraged to call ahead to (202) 205-0893 to facilitate entry into the building.

Dated: November 3, 2004.
Gloria Manning,
Acting Deputy Chief, National Forest System.

[FR Doc. 04-26393 Filed 11-29-04; 8:45 am]

BILLING CODE 3410-11-P